MILLENNIUM CHALLENGE CORPORATION

[MCC FR 17-07]

Millennium Challenge Corporation Advisory Council

AGENCY: Millennium Challenge Corporation.

ACTION: Notice of open meeting.

SUMMARY: In accordance with the requirements of the Federal Advisory Committee Act, 5 U.S.C.—App., the Millennium Challenge Corporation (MCC) Advisory Council was established as a discretionary advisory committee on June 14, 2016. The MCC Advisory Council contributes to MCC's mission to reduce poverty through economic growth. The functions of the MCC Advisory Council are to exclusively serve MCC in an advisory capacity and provide insight regarding innovations in infrastructure, technology and sustainability, perceived risks and opportunities in MCC partner countries, new financing mechanisms for developing country contexts, and shared value approaches. The MCC Advisory Council provides a platform for systematic engagement with the private sector and other external stakeholders.

DATES: The meeting will be held October 17, 2017, from 9 a.m.-1:45 p.m. EST.

ADDRESSES: The meeting will be held at the Millennium Challenge Corporation 1099 14th St. NW., Suite 700 Washington, DC 20005.

FOR FURTHER INFORMATION CONTACT: For further information, contact Beth Roberts at MCCAdvisoryCouncil@mcc.gov or 202-521-3600 or visit https://www.mcc.gov/about/org-unit/advisory-council.

SUPPLEMENTARY INFORMATION: Time and Place: Tuesday, October 17, 2017, from 9:00 a.m.-1:45 p.m. EST which includes a working lunch. The meeting will be held at the Millennium Challenge Corporation 1099 14th St. NW., Suite 700, Washington, DC 20005.

Agenda: During the fall 2017 meeting of the MCC Advisory Council, members will discuss ways MCC can continue to bolster its relationship with the private sector and provide advice on MCC's investments in the Northern Triangle and ongoing compact development in Tunisia.

Public Participation: The meeting will be open to the public. Members of the public may file written statement(s) before or after the meeting. If you plan to attend, please submit your name and affiliation no later than Monday, October 9, to MCCAdvisoryCouncil@mcc.gov to be placed on an attendee list.

Jeanne M. Hauch,
VP/General Counsel and Corporate Secretary, Millennium Challenge Corporation.

[FR Doc. 2017-20849 Filed 9-26-17; 11:15 am]

BILLING CODE 9211-03-P